DEPARTMENT OF DEFENSE

Department of the Air Force

Privacy Act of 1974; System of Records

AGENCY: Department of the Air Force, DoD.

ACTION: Notice to Alter a System of Records

SUMMARY: The Department of the Air Force is altering a system of records notice in its existing inventory of record systems subject to the Privacy Act of 1974, (5 U.S.C. 552a), as amended.

DATES: This proposed action will be effective without further notice on January 10, 2005, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force systems of records notices subject to the Privacy Act of 1974, (5 U.S.C. 552a), as amended, have been published in the Federal Register and are available from the address above.

The proposed system report, as required by 5 U.S.C. 522a(r) of the Privacy Act of 1974, as amended, was submitted on November 24, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: December 6, 2004.
Jeannette Owings-Ballard,
OSD Federal Register Liaison Officer, Department of Defense.

F051 AF JA F

System name:

Courts-Martial and Article 15 Records (June 11, 1997, 62 FR 31793).

Changes:

* * * * *

Routine uses of records maintained in the system, including categories of users and the purposes of such uses: Add a new paragraph “To victims and witnesses of a crime for the purposes of providing information consistent with the requirements of the Victim and Witness Assistance Program and the Victims' Rights and Restitution Act of 1990 regarding the investigation and disposition of an offense.”

* * * * *

F051 AF JA F

System name:

Courts-Martial and Article 15 Records.

System location:

Judge Advocate General, Headquarters United States Air Force, 1420 Air Force Pentagon, Washington, DC 20330-1420;

Headquarters Air Force Personnel Center, 550 C Street W, Randolph Air Force Base, TX 78150-4703;

National Personnel Records Center, Military Personnel Records, 9700 Page Boulevard, St. Louis, MO 63132-5100;

Washington National Records Center, Washington, DC 20409-0002; and

Air Force major commands, major subordinate commands headquarters, and at all levels down to and including Air Force installations. Official mailing addresses are published as an appendix to the Air Force's compilation of systems of records notices.

Categories of individuals covered by the system:

All persons subject to the Uniform Code of Military Justice (10 U.S.C. 802) who are tried by courts-martial or upon whom Article 15 punishment is imposed.

Categories of records in the system:

Records of trial by courts-martial and records of Article 15 punishment and documents received or prepared in anticipation of judicial and non-judicial proceedings.

Authority for maintenance of the system:

10 U.S.C. 815(g), Commanding officer's non-judicial punishment; 854, Record of Trial; 865, Disposition of records after review by the convening authority; and E.O. 9397.

Purpose(s):

Records of trial by courts-martial are used for review by the appellate and other authorities.

Portions of the record in every case are used in evaluating the individual's overall performance and inclusion in the military master personnel record; if conviction results, a record thereof can be introduced at a subsequent courts-martial trial involving the same individual; also used as source documents for collection of statistical information.

Article 15 records are used for review of legal sufficiency and action on appeals or applications for correction of military records filed before appropriate Air Force authorities; used to formulate responses to inquiries concerning individual cases made by the Congress, the President, the Department of Defense, the individual involved or other persons or agencies with a legitimate interest in the Article 15 action; used by Air Force personnel authorities in evaluating the individual's overall performance and inclusion in the individual's military master personnel record; may be used for introduction at a subsequent courts-martial trial involving the same individual; used as source documents for collection of statistical information by The Judge Advocate General.

Documents received or prepared in anticipation of judicial and non-judicial Uniform Code of Military Justice proceedings are used by prosecuting attorneys for the government to analyze evidence; to prepare for examination of witnesses; to prepare for argument before courts, magistrates, and investigating officers, and to advise commanders. Documents may be required after trial when appellate or reviewing authorities make post-trials inquiries or order new trials.

Route uses of records maintained in the system, including categories of users and the purposes of such uses:

In addition to those disclosures generally permitted under 5 U.S.C. 552a(b) of the Privacy Act, these records, or information contained therein, may specifically be disclosed outside the DoD as a routine use pursuant to 5 U.S.C. 552a(b)(3) as follows:

Records form this system may be disclosed to the Department of Veteran Affairs, the Department of Justice, the Department of State, and federal courts for determination of rights and entitlements of individuals concerned or the government.

The records may also be disclosed to a governmental board or agency or health care professional society or organization if such record or document is needed to perform licensing or professional standards monitoring related to credentialed health care practitioners or licensed non-credentialed health care personnel who are or were members of the United States Air Force, and to medical institutions or organizations wherein such member has applied for or been granted authority or employment to provide health care services if such record or document is needed to assess the professional qualifications of such member.

To victims and witnesses of a crime for the purposes of providing information consistent with the requirements of the Victim and Witness Assistance Program and the Victims' Rights and Restitution Act of 1990 regarding the investigation and disposition of an offense.

The DoD ‘Blanket Routine Uses’ set forth at the beginning of the Air Force's compilation of systems of records notices apply to this system.

Policies and practices for storing, retrieving, accessing, retaining, and disposing of records in the system:

Storage:

Maintained in file folders, and in computers and computer output products.

Retrievability:

Retrieved by name, Social Security Number, Military Service Number, or by other searchable data fields.

Safeguards:

Records are accessed by custodian of the record system and person(s) who are properly screened and cleared for need-to-know. Records are stored in vaults and locked rooms or cabinets. Records are protected by guards, and controlled by personnel screening and by visitor registers. Those in computer storage devices are protected by computer system software.

Retention and disposal:

Courts-martial records are retained in office files for 2 years following date of final action and then retired as permanent. General and special courts-martial records are retired to the Washington National Records Center, Washington, DC 20409-0002.

Summary courts-martial and Article 15 records are retained in office files for 1 year or until no longer needed, whichever is sooner, and then retired as permanent.

Summary courts-martial and Article 15 records are forwarded to the Air Force Personnel Center for filing in the individual's permanent master personnel record.

Documents received or prepared in anticipation of judicial and non-judicial Uniform Code of Military Justice proceedings are maintained in office files until convictions are final or until no longer needed then destroyed. Records are destroyed by tearing into pieces, shredding, pulping, macerating or burning.

System manager(s) and address:

Judge Advocate General, Headquarters United States Air Force, 1420 air Force Pentagon, Washington, DC 20330-1420;

Chief, Military Personnel Records Division, Directorate of Personnel Data Systems, Headquarters Air Force Personnel Center, 550 C Street W, Randolph Air Force Base, TX 78150-4703; and

The Staff Judge Advocate at all levels of command and at Air Force installations. Official mailing addresses are published as an appendix to the Air Force's compilation of systems of records notices.

Notification procedure:

Individuals seeking to determine whether information about themselves is contained in this system of records should address written inquiries to the appropriate System manager above.

Individual should provide full name, Social Security Number, service number if different than Social Security Number, unit of assignment, date of trial and type of court, if known, or date punishment imposed in the case of Article 15 action.

Record access procedures:

Individuals seeking to access records about themselves contained in this system of records should address written inquiries to the appropriate System manger above.

Individual should provide full name, Social Security Number, service number if different than Social Security Number, unit of assignment, date of trial and type of court, if known, or date punishment imposed in the case of Article 15 action. Requester may visit the office of the system manager. Requester must present valid identification card or driver's license.

Contesting record procedures:

The Air Force rules for accessing records, and for contesting contents and appealing initial agency determinations are published in Air Force Instruction 33-332; 32 CFR part 806b; or may be obtained from the system manager.

Record source categories:

Information from almost any source can be included if it is relevant and material to the Article 15 or courts-martial proceedings.

Exemptions claimed for the system:

Portions of this system may be exempt pursuant to 5 U.S.C. 552a(j)(2) if the information is compiled and maintained by a component of the agency that performs as its principle function any activity pertaining to the enforcement of criminal laws from the following subsections of 5 U.S.C. 552a(c)(3), (c)(4), (d), (e)(1), (e)(2), (e)(3), (e)(4)(G), (H) and (I), (e)(5), (e)(8), (f), and (g).

Investigatory material compiled for law enforcement purposes, other than material within the scope of subsection 5 U.S.C. 552a(j)(2), may be exempt pursuant to 5 U.S.C. 552a(k)(2).

However, if an individual is denied any right, privilege, or benefit for which he would otherwise be entitled by Federal law or for which he would otherwise be eligible, as a result of the maintenance of the information, the individual will be provided access to the information exempt to the extent that disclosure would reveal the identity of a confidential source from the following subsections of 5 U.S.C. 552a(c)(3), (d), (e)(1), (e)(4)(G), (H), and (I), and (f). Note: When claimed, this exemption allows limited protection of investigative reports maintained in a system of records used in personnel or administrative actions.

An exemption rule for this record system has been promulgated in accordance with the requirements of 5 U.S.C. 553(b)(1), (2), and (3), (c) and (e) and published in 32 CFR part 806c. For additional information contact the system manager.

[FR Doc. 04-27130 Filed 12-9-04; 8:45 am]

BILLING CODE 5001-06-M